ENVIRONMENTAL PROTECTION AGENCY

[FRL-7407-8]

Proposed Administrative Settlement Under the Comprehensive Environmental Response, Compensation and Liability Act; Nazcon Concrete Superfund Site

AGENCY: Environmental Protection Agency.

ACTION: Notice; request for public comment.

SUMMARY: In accordance with section 122(i)(1) of CERCLA, 42 U.S.C. 9622(i)(1), notice is hereby given of a proposed administrative settlement concerning the Nazcon Concrete Superfund Site, Beltsville, Prince George's County, Maryland. The administrative settlement was signed by the Acting Regional Administrator of the United States Environmental Protection Agency (EPA), Region III, on October 31, 2002, and is subject to review by the public pursuant to this document.

The Environmental Protection Agency is proposing to enter into a settlement pursuant to section 122(h) of the Comprehensive Environmental Response, Compensation and Liability Act of 1980, as amended (CERCLA), 42 U.S.C. 9622(h). The proposed settlement resolves EPA's claim for past response costs under section 107 of CERCLA, 42 U.S.C. 9607 against NAZCON, Inc. for response costs incurred at the Nazcon Concrete Superfund Site, Beltsville, Prince George's County, Maryland. The proposed settlement requires NAZCON, Inc. to pay $15,000 to the EPA Hazardous Substance Fund.

NAZCON, Inc., as the Settling Party, has executed binding certifications of its consent to participate in this settlement. NAZCON, Inc. has agreed to pay $15,000 subject to the contingency that EPA may elect not to complete the settlement based on matters brought to its attention during the public comment period established by this notice.

For thirty (30) days following the date of publication of this notice, EPA will receive written comments relating to the proposed settlement. EPA will consider all comments received and may withdraw or withhold consent to the proposed settlement if such comments disclose facts or considerations which indicate that the proposed settlement is inappropriate, improper, or inadequate.

DATES: Comments must be submitted on or before December 12, 2002.

ADDRESSES: Comments should be addressed to the Docket Clerk, United States Environmental Protection Agency, Region III, 1650 Arch Street, Philadelphia, Pennsylvania, 19103, and should reference the Nazcon Concrete Superfund Site, Beltsville, Maryland, U.S. EPA Docket No. CERCLA 03-2002-0255-DC. The proposed settlement agreement is available for public inspection at the United States Environmental Protection Agency, Region III, 1650 Arch Street, Philadelphia, Pennsylvania, 19103. A copy of the proposed settlement agreement can be obtained from Suzanne Canning, Regional Docket Clerk (3RC00), United States Environmental Protection Agency, Region III, 1650 Arch Street, Philadelphia, Pennsylvania, 19103, telephone number (215) 814-2476.

EPA's response to any written comments received will be available for public inspection at the United States Environmental Protection Agency, Region III, 1650 Arch Street, Philadelphia, PA 19103.

FOR FURTHER INFORMATION CONTACT: Suzanne M. Parent, Senior Assistant Regional Counsel, United States Environmental Protection Agency, Office of Regional Counsel (3RC44), 1650 Arch Street, Philadelphia, Pennsylvania, 19103, telephone number (215) 814-2630.

Dated: October 31, 2002.
James W. Newsom,
Acting Regional Administrator, U.S. EPA, Region III.

[FR Doc. 02-28842 Filed 11-12-02; 8:45 am]

BILLING CODE 6560-50-P